DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Associate Administrator for Mitigation has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Yavapai (FEMA Docket No.: B-1225) | Town of Clarkdale (11-09-1419P) | August 3, 2011; August 10, 2011; The Verde Independent | The Honorable Doug Von Gausig, Mayor, Town of Clarkdale, 39 North 9th Street, Clarkdale, AZ 86324 | December 8, 2011 | 040095
California:
Alameda (FEMA Docket No.: B-1225) | City of Fremont (11-09-0580P) | August 25, 2011; September 1, 2011; The Argus | The Honorable Bob Wasserman, Mayor, City of Fremont, 3300 Capitol Avenue, Fremont, CA 94538 | August 16, 2011 | 065028
San Luis Obispo (FEMA Docket No.: B-1225) | City of Morro Bay (10-09-3119P) | August 16, 2011; August 23, 2011; The Tribune | The Honorable William Yates, Mayor, City of Morro Bay, 595 Harbor Street, Morro Bay, CA 93442 | December 21, 2011 | 060307
Colorado:
Jefferson (FEMA Docket No.: B-1225) | City of Lakewood (11-08-0637P) | August 25, 2011; September 1, 2011; The Golden Transcript | The Honorable Bob Murphy, Mayor, City of Lakewood, Lakewood Civic Center South, 480 South Allison Parkway, Lakewood, CO 80226 | August 16, 2011 | 085075
Larimer (FEMA Docket No.: B-1231) | Unincorporated areas of Larimer County (11-08-0189P) | September 8, 2011; September 15, 2011; The Fort Collins Coloradoan | The Honorable Tom Donnelly, Chairman, Larimer County Board of Commissioners, 200 West Oak Street, 2nd Floor, Fort Collins, CO 80522 | September 29, 2011 | 080101
Florida:
Broward (FEMA Docket No.: B-1231) | Town of Hillsboro Beach (11-04-3579P) | June 28, 2011; July 5, 2011; The Sun-Sentinel | The Honorable Dan Dodge, Mayor, Town of Hillsboro Beach, 1210 Hillsboro Mile, Hillsboro Beach, FL 33062 | June 21, 2011 | 120040
Lake (FEMA Docket No.: B-1225) | Unincorporated areas of Lake County (11-04-4633P) | August 12, 2011; August 19, 2011; The Daily Commercial | The Honorable Jennifer Hill, Chair, Lake County Board of, Commissioners, 315 West Main Street, Tavares, FL 32778 | December 19, 2011 | 120421
Orange (FEMA Docket No.: B-1231) | City of Orlando (11-04-2561P) | June 30, 2011; July 7, 2011; The Orlando Weekly | The Honorable Buddy Dyer, Mayor, City of Orlando, 400 South Orange Avenue, 3rd Floor, Orlando, FL 32808 | November 4, 2011 | 120186
Sumter (FEMA Docket No.: B-1231) | Unincorporated areas of Sumter County (11-04-6000P) | September 8, 2011; September 15, 2011; The Sumter County Times | The Honorable Don Burgess, Chairman, Sumter County Board of Commissioners, 7375 Powell Road, Wildwood, FL 34785 | August 30, 2011 | 120296
Volusia (FEMA Docket No.: B-1219) | Unincorporated areas of Volusia County (11-04-5578X) | August 1, 2011; August 8, 2011; The Beacon | Mr. James Dinneen, Volusia County Manager, 123 West Indiana Avenue, DeLand, FL 32720 | December 6, 2011 | 125155
Montana:
Missoula (FEMA Docket No.: B-1219) | Unincorporated areas of Missoula County (11-08-0184P) | July 28, 2011; August 4, 2011; The Missoula Independent | The Honorable Bill Carey, Chairman, Missoula County Board of Commissioners, 199 West Pine Street, Missoula, MT 59802 | December 2, 2011 | 300048
New Jersey:
Middlesex (FEMA Docket No.: B-1225) | Township of North Brunswick (11-02-1340P) | August 24, 2011; August 31, 2011; The North and South Brunswick Sentinel | The Honorable Francis Womack III, Mayor, Township of North Brunswick, 710 Hermann Road, North Brunswick, NJ 08902 | December 29, 2011 | 340271
Middlesex (FEMA Docket No.: B-1225) | Township of South Brunswick (11-02-1340P) | August 24, 2011; August 31, 2011; The North and South Brunswick Sentinel | The Honorable Frank Gambatese, Mayor, Township of South Brunswick, 540 Ridge Road, Monmouth Junction, NJ 08852 | December 29, 2011 | 340278
North Carolina:
Buncombe (FEMA Docket No.: B-1225) | Unincorporated areas of Buncombe County (11-04-2928P) | August 24, 2011; August 31, 2011; The Asheville Citizen-Times | Ms. Wanda Greene, Buncombe County Manager, 205 College Street, Suite 300, Asheville, NC 28801 | August 15, 2011 | 370031
Forsyth (FEMA Docket No.: B-1225) | Town of Kernersville (11-04-0470P) | July 21, 2011; July 28, 2011; The Kernersville News and The Winston-Salem Journal | The Honorable Dawn H. Morgan, Mayor, Town of Kernersville, 134 East Mountain Street, Kernersville, NC 27284 | November 25, 2011 | 370319
Forsyth (FEMA Docket No.: B-1225) | Unincorporated areas of Forsyth County (11-04-0470P) | July 21, 2011; July 28, 2011; The Kernersville News and The Winston-Salem Journal | Mr. J. Dudley Watts, Jr., Forsyth County Manager, 201 North Chestnut Street, Winston-Salem, NC 27101 | November 25, 2011 | 375349
Oklahoma:
Oklahoma (FEMA Docket No.: B-1225) | City of Oklahoma City (10-06-3231P) | August 4, 2011; August 11, 2011; The Journal Record | The Honorable Mick Cornett, Mayor, City of Oklahoma City, 200 North Walker Avenue, Oklahoma City, OK 73102 | August 29, 2011 | 405378
Pennsylvania:
Delaware FEMA Docket No.: B-1225) | Township of Haverford (11-03-0098P) | July 5, 2011; July 12, 2011; The Daily Times | The Honorable William F. Wechsler, President, Township of Haverford Board of Commissioners, 2325 Darby Road, Havertown, PA 19083 | November 9, 2011 | 420417
South Carolina:
Dorchester (FEMA Docket No.: B-1231) | Unincorporated areas of Dorchester County (10-04-8306P) | August 24, 2011; August 31, 2011; The Summerville Journal Scene | The Honorable Larry S. Hargett, Chairman, Dorchester County Council, 201 Johnston Street, Dorchester, SC 29477 | December 29, 2011 | 450068
Spartanburg (FEMA Docket No.: B-1231) | Unincorporated areas of Spartanburg County (11-04-4008P) | September 8, 2011; September 15, 2011; The Spartanburg Herald-Journal | The Honorable Jeffrey A. Horton, Chairman, Spartanburg County Council, 366 North Church Street, Suite 1000, Spartanburg, SC 29303 | August 30, 2011 | 450176
Tennessee:
Tipton (FEMA Docket No.: B-1231) | City of Munford (11-04-1663P) | June 16, 2011; June 23, 2011; The Leader | The Honorable Dwayne Cole, Mayor, City of Munford, 1397 Munford Avenue, Munford, TN 38058 | October 21, 2011 | 470422
Tipton (FEMA Docket No.: B-1231) | Unincorporated areas of Tipton County (11-04-1663P) | June 16, 2011; June 23, 2011; The Leader | The Honorable Jeff Huffman, Tipton County Executive, 220 U.S. Route 51 North, Suite 2, Covington, TN 38019 | October 21, 2011 | 470340
Texas:
Dallas (FEMA Docket No.: B-1225) | City of Garland (11-06-2614P) | August 3, 2011; August 10, 2011; The Dallas Morning News | The Honorable Ronald E. Jones, Mayor, City of Garland, 200 North 5th Street, Garland, TX 75040 | July 27, 2011 | 485471
Dallas (FEMA Docket No.: B-1215) | City of Irving (10-06-0922P) | June 1, 2011; June 8, 2011; The Dallas Morning News | The Honorable Herbert A. Gears, Mayor, City of Irving, 825 West Irving Boulevard, Irving, TX 75060 | October 6, 2011 | 480180
Denton and Tarrant (FEMA Docket No.: B-1225) | City of Fort Worth (11-06-1407P) | June 28, 2011; July 5, 2011; The Fort Worth Star-Telegram | The Honorable Betsy Price, Mayor, City of Fort Worth, 1000 Throckmorton Street, Fort Worth, TX 76102 | November 2, 2011 | 480596
Gregg and Harrison (FEMA Docket No.: B-1225) | City of Longview (11-06-0244P) | August 3, 2011; August 10, 2011; The Longview News-Journal | The Honorable Jay Dean, Mayor, City of Longview, 300 West Cotton Street, Longview, TX 75601 | August 25, 2011 | 480264
Tarrant (FEMA Docket No.: B-1225) | City of Euless (10-06-3064P) | March 4, 2011; March 11, 2011; The Fort Worth Star-Telegram | The Honorable Mary Lib Saleh, Mayor, City of Euless, 201 North Ector Drive, Euless, TX 76039 | July 11, 2011 | 480593
Tarrant (FEMA Docket No.: B-1225) | City of Keller (11-06-0636P) | July 14, 2011; July 21, 2011; The Fort Worth Star-Telegram | The Honorable Pat McGrail, Mayor, City of Keller, 1100 Bear Creek Parkway, Keller, TX 76248 | July 7, 2011 | 480602
Tarrant (FEMA Docket No.: B-1225) | City of North Richland Hills (11-06-0636P) | July 14, 2011; July 21, 2011; The Fort Worth Star-Telegram | The Honorable Oscar Trevino, Jr., P.E., Mayor, City of North Richland Hills, 7301 Northeast Loop 820, North Richland Hills, TX 76180 | July 7, 2011 | 480607
Williamson (FEMA Docket No.: B-1225) | Unincorporated areas of Williamson County (10-06-3690P) | July 27, 2011; August 3, 2011; The Williamson County Sun | The Honorable Dan A. Gattis, Williamson County Judge, 710 South Main Street, Suite 101, Georgetown, TX 78626 | December 2, 2011 | 481079

(Catalog of Federal Domestic Assistance No. 97.022, “Flood Insurance.”)

Dated: March 13, 2012.
Sandra K. Knight,
Deputy Associate Administrator for Mitigation, Department of Homeland Security, Federal Emergency Management Agency.

[FR Doc. 2012-8402 Filed 4-6-12; 8:45 am]

BILLING CODE 9110-12-P